SMALL BUSINESS ADMINISTRATION

[Disaster Declaration # 10007 and # 10008]

Indiana Disaster Number IN-00001

AGENCY: U.S. Small Business Administration.

ACTION: Amendment 1.

SUMMARY: This is an amendment of the Presidential declaration of a major disaster for the State of Indiana (FEMA-1573-DR ), dated 01/21/2005.

Incident: Severe Winter Storms and Flooding.

Incident Period: 01/01/2005 and continuing.

Effective Date: 01/31/2005.

Physical Loan Application Deadline Date: 03/22/2005.

EIDL Loan Application Deadline Date: 10/21/2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the Presidential disaster declaration for the State of Indiana dated 01/21/2005, is hereby amended to include the following areas as adversely affected by the disaster.

Primary Counties

Adams

Allen

Dearborn

De Kalb

Elkhart

Fayette

Franklin

Fulton

Jasper

Kosciusko

Lake

Laporte

Marshall

Newton

Noble

Porter

Pulaski

Ripley

St. Joseph

Starke

Union

Wayne

Whitley

Contiguous Counties

Indiana

Lagrange

Ohio

Steuben

Switzerland

Illinois

Cook

Kankakee

Will

Kentucky

Boone

Michigan

Berrien

Cass

St. Joseph

Ohio

Butler

Defiance

Hamilton

Paulding

Preble

Van Wert

Williams

All other information in the original declaration remains unchanged.

(Catalog of Federal Domestic Assistance Numbers 59002 and 59008)

Herbert L. Mitchell,
Associate Administrator for Disaster Assistance.

[FR Doc. 05-2942 Filed 2-15-05; 8:45 am]

BILLING CODE 8025-01-P